DEPARTMENT OF THE INTERIOR

Bureau of Land Management

[19X LLWO230 L11100000.PN0000 LXSGPL000000]

Notice of Availability of Record of Decision and Approved Resource Management Plan Amendment for Greater Sage-Grouse Conservation, Northwest Colorado

AGENCY: Bureau of Land Management, Interior.

ACTION: Notice of Availability.

SUMMARY: The Bureau of Land Management (BLM) announces the availability of the Record of Decision (ROD) for the Approved Resource Management Plan (RMP) Amendment for Greater Sage-Grouse Conservation for the Northwest Colorado Greater Sage-Grouse Sub-Region. The State Director signed the ROD on March 15, 2019, which constitutes the BLM's final decision and makes the ROD effective immediately.

ADDRESSES: The ROD is available on the BLM ePlanning project website at https://go.usa.gov/xP6Xa. Click the Documents and Reports link to find the electronic version of these materials. Hard copies of the ROD are also available for public inspection at the Colorado State Office and the Grand Junction Field Office.

FOR FURTHER INFORMATION CONTACT: Bridget Clayton, Sage-Grouse Coordinator, BLM Colorado, telephone (970) 244-3045; address 2815 H Road, Grand Junction, CO 81506; email bclayton@blm.gov. Persons who use a telecommunications device for the deaf (TDD) may call the Federal Relay Service (FRS) at 1-800-877-8339 to contact Ms. Clayton. The FRS is available 24 hours a day, 7 days a week, to leave a message or question. You will receive a reply during normal business hours.

SUPPLEMENTARY INFORMATION: The BLM developed the Northwest Colorado Greater Sage-Grouse Approved RMP Amendment to enhance cooperation with States by improving alignment with State management plans and strategies for Greater Sage-Grouse, while continuing to conserve, enhance, and restore Greater Sage-Grouse and its habitat.

The BLM developed the Approved RMP Amendment in collaboration with Colorado Governor John Hickenlooper, State wildlife managers, and other concerned organizations and individuals, largely through the Western Governors Association's Sage-Grouse Task Force. Using its discretion and authority under the Federal Land Policy and Management Act (FLPMA), the BLM amends land use plans that address Greater Sage-Grouse management to improve alignment with the State of Colorado plans and management strategies, in accordance with the BLM's multiple use and sustained yield mission.

This Approved RMP Amendment is one of six separate plan amendments developed and issued in response to the Secretary's Order (SO) 3353 (Greater Sage-grouse Conservation and Cooperation with Western States) and in accordance with SO 3349 (American Energy Independence). The amendments refine the previous management plan adopted in 2015 and aim to strike a regulatory balance and build greater trust among neighboring interests in Western communities.

The Northwestern Colorado Greater-Sage Grouse Approved RMP Amendment specifically allows greater flexibility for the BLM to work with the State of Colorado on issues related to fluid minerals management and mitigation. The Approved RMP Amendment amends the following RMPs for BLM-administered lands in Colorado:

• Colorado River Valley RMP (BLM 2015).

• Grand Junction RMP (BLM 2015).

• Kremmling RMP (BLM 2015).

• Little Snake RMP (BLM 2011).

• White River RMP (BLM 1997) and associated amendments, including the White River Oil and Gas Amendment (BLM 2015).

The planning area is part of the larger Rocky Mountain Region and encompasses approximately 15 million acres, including 8.5 million acres of public lands managed by five BLM field offices in the 10 northwest Colorado counties of Eagle, Garfield, Grand, Jackson, Larimer, Mesa, Moffat, Rio Blanco, Routt, and Summit. The planning area encompasses National Park Service, U.S. Department of Defense, U.S. Forest Service, U.S. Fish and Wildlife Service, State of Colorado, county, city, and private lands. Decisions in this RMP Amendment apply solely to BLM-administered surface (totaling approximately 1.7 million acres) and BLM-administered Federal mineral estate (approximately 2.1 million acres) within Greater Sage-Grouse habitat. Surface management decisions made in the Approved RMP Amendment apply only to lands administered by the BLM in the decision area.

The BLM prepared an EIS in accordance with the NEPA to analyze the direct, indirect, and cumulative environmental impacts associated with the proposed action and the alternatives. The ROD approves the Agency Preferred Alternative identified in the Final EIS. The BLM issued the ROD based on compliance with relevant laws, regulations, policies, and plans, including those guiding agency decisions that may have an impact on resources and their values, services, and functions.

On December 10, 2018, the NOA for the Northwestern Colorado Greater Sage-Grouse Proposed RMP Amendment/Final EIS (83 FR 63523) was published in the Federal Register. The publication of the NOA initiated a 30-day protest period for the proposed land-use-planning decision. The protest period was later extended an additional seven days to help account for technical issues the public encountered when submitting protests during the partial Federal government shutdown in January 2019. NOA publication also initiated a simultaneous 60-day review by the Governor of Colorado to identify inconsistencies with State or local plans, policies, or programs. At the close of the protest period, 18 protests had been received. These protests were resolved by the BLM Director; individual protest response letters were sent to all protesting parties. Protest resolution is contained in the Director's Protest Summary Report, which is available online at https://www.blm.gov/programs/planning-and-nepa/public-participation/protest-resolution-reports. The proposed RMP Amendment was not modified as a result of the protest resolution. The Colorado Governor's review identified minor clarifications to the plan which, if completed, resulted in the Governor's office agreeing that the plan is consistent with state plans, policies, and programs. Colorado BLM made the clarifications, including updating the Governor's 2018 Executive Order for Sage-grouse.

Authority: 40 CFR 1506.6

Jamie Connell,
BLM Colorado State Director.

[FR Doc. 2019-05293 Filed 3-19-19; 8:45 am]

BILLING CODE 4310-84-P